DEPARTMENT OF ENERGY

Energy Information Administration

Agency Information Collection Activities: Submission for OMB Review; Comment Request

AGENCY: Energy Information Administration (EIA), Department of Energy (DOE).

ACTION: Agency Information Collection Activities: Submission for OMB Review; Comment Request.

SUMMARY: The EIA has submitted the Financial Reporting EIA-28 Survey package to the Office of Management and Budget (OMB) for clearance under the provisions of the Paperwork Reduction Act of 1995. The Financial Reporting System, Form EIA-28 collects data used to analyze the energy industry's competitive environment as well as energy industry resource development, supply distribution, and profitability issues. This is a request to conduct a comprehensive voluntary evaluation of an existing data collection to inform a future redesign of the EIA-28. This future redesign will measure upstream oil and gas costs for exploration and production for U.S. companies' foreign and domestic operations. In order to successfully inform this redesign, EIA will assess the feasibility of collecting and measuring upstream oil and gas costs for exploration and production for U.S. energy companies' foreign and domestic operations. EIA will work to identify the policy goals and data needs of its stakeholders with respect to the collection and measurement of upstream oil and gas costs. The goal of this evaluation is to collect enough data to successfully inform the future redesign of the EIA-28.

DATES: Comments must be filed by April 11, 2013. If you anticipate that you will be submitting comments but find it difficult to do so within that period, you should contact the OMB Desk Officer for DOE listed below as soon as possible. The Desk Officer may be telephoned at 202-395-4718 or contacted by email at chad_s_whiteman@omb.eop.gov.

ADDRESSES: Send comments to DOE Desk Officer, Office of Information and Regulatory Affairs, Office of Management and Budget, New Executive Office Building, Room 10102, 735 17th Street NW., Washington, DC 20503. To ensure receipt of the comments by the due date, submission by FAX (202-395-7285) or email to Chad_S_Whiteman@omb.eop.gov is recommended. The OMB DOE Desk Officer may be telephoned at (202) 395-4718. A copy of your comments should also be provided to Neal Davis at the address below.

FOR FURTHER INFORMATION CONTACT: Requests for additional information should be directed to Neal Davis. To ensure receipt of the comments by the due date, submission by FAX (202-586-4420) or email (neal.davis@eia.gov) is also recommended. The mailing address is EI-24, Forrestal Building, 1000 Independence Ave. SW., U.S. Department of Energy, Washington, DC 20585-0670. Mr. Davis may be contacted by telephone at (202) 586-6581.

SUPPLEMENTARY INFORMATION: This section contains the following information about the energy information collection submitted to OMB for review: (1) OMB No.: New; (2) Information Collection Request Title: Evaluation of the Financial Reporting System, Form EIA-28; (3) Type of Request: Comprehensive Evaluation of an Existing Data Collection; (4) Purpose: The Financial Reporting System, Form EIA-28 collects data used to analyze the energy industry's competitive environment as well as energy industry resource development, supply distribution, and profitability issues. However, this is not a request to collect data using Form EIA-28. It is a request to conduct a comprehensive voluntary evaluation of an existing data collection to inform a future redesign of the EIA-28. This future redesign will measure upstream oil and gas costs for exploration and production for U.S. companies' foreign and domestic operations. In order to successfully inform this redesign, EIA will assess the feasibility of collecting and measuring upstream oil and gas costs for exploration and production for U.S. energy companies' foreign and domestic operations. EIA will work to identify the policy goals and data needs of its stakeholders with respect to the collection and measurement of upstream oil and gas costs. The goal of this evaluation is to collect enough data to successfully inform the future redesign of the EIA-28. (5) Annual Estimated Number of Respondents: 300; (6) Annual Estimated Number of Total Responses: 300; (7) Annual Estimated Number of Burden Hours: 430; and (8) Annual Estimated Reporting and Recordkeeping Cost Burden: There is no cost associated with reporting and recordkeeping.

Statutory Authority: Public Law 93-275 (Federal Energy Administration Act of 1974), 5(a) and 13(a).

Issued in Washington, DC, on March 5, 2013.
Stephanie Brown,
Director, Office of Survey Development and Statistical Integration, U.S. Energy Information Administration.

[FR Doc. 2013-05632 Filed 3-11-13; 8:45 am]

BILLING CODE 6450-01-P